DEPARTMENT OF AGRICULTURE

Submission for OMB Review; Comment Request

February 11, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by March 19, 2020. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Poultry Litter Nutrient Distribution Producer Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of select agricultural operations in Delaware, Maryland, Pennsylvania, and Virginia. Each selected farmer or rancher will be asked to provide data on (1) Basic crop and tillage practices in 2019, (2) Preferred sources of nutrients and actual sources of nutrients used, (3) Where the operator gets information and recommendations on nutrients, and (4) Farmer perception between poultry litter co-products and other sources of nutrients. General authority for these data collection activities is granted under U.S.C. Title 7, Section 2204.

Need and Use of the Information: A comprehensive evaluation of farmer preferences for using fresh poultry litter or poultry litter ash co-products has not been previously conducted in the Chesapeake Bay area.

Data may be used for market development, policy, and/or budgeting for cost-share/poultry transport programs. Stakeholders would be farmers (poultry growers and crop producers), policy makers, technology vendors, fertilizer manufacturers, and manure brokers/haulers.

Information from the survey could be used by commercial fertilizer dealers, poultry growers, technology vendors, or state agencies to make investment decisions regarding fresh poultry litter and poultry litter ash co-products. For example, policy makers could base changes to the state cost share program for manure transport on the results, or a fertilizer company/technology vendor could invest in a new fertilizer product based on the results.

The survey will also complement on-going efforts in Chesapeake Bay states to achieve water quality goals via promoting on-farm and regional phosphorus balance. Several states (Maryland and Delaware for example) offer funding to transport poultry litter from farms where it is produced to fields where it is needed. Despite cost share incentives to use poultry litter, many farmers choose not to use poultry litter. This survey will identify barriers to expanded use of poultry litter on farms in the region.

Description of Respondents: A sample of all active agricultural operations in Delaware, Maryland, Pennsylvania, and Virginia that produce:

• 200 or more acres of row crops (corn, soybeans, wheat, peanuts, cotton),

• 25 or more acres of specialty crops (vegetables, fruit, flowers), and/or

• at least $10,000 of floriculture sales.

Number of Respondents: 1,000.

Frequency of Responses: Reporting: Once a year.

Total Burden Hours: 483.

Ruth Brown,
Departmental Information Collection Clearance Officer.

[FR Doc. 2020-03067 Filed 2-14-20; 8:45 am]

BILLING CODE 3410-20-P